Title 3—

The President

Proclamation 8674 of May 13, 2011

Emergency Medical Services Week, 2011

By the President of the United States of America

A Proclamation

Each day, Americans rely on emergency medical service (EMS) systems to help them in their hour of greatest need. In communities across our Nation, we take comfort in knowing that well-trained, caring men and women are only a phone call away from treating injuries sustained in a car crash, responding to a cardiac emergency, or helping a child with asthma breathe easier. When accidents and illnesses strike unexpectedly, EMS personnel are the first on the scene, and their timely actions often make the difference between life and death.

Emergency medical technicians (EMTs), paramedics, and first responders serve on the front lines of our health care and public health system. Working with them are many others whose dedication makes the EMS system function, including emergency dispatchers, physicians, nurses, and researchers, as well as colleagues in the fire service and law enforcement. Our Nation’s EMS system represents the American spirit at its best, with many ambulances in the United States partially or fully staffed by volunteers. They devote countless hours to keeping their communities, including often underserved rural areas, safe.

My Administration is committed to supporting the brave men and women who help keep America secure and resilient. This year, I signed the James Zadroga 9/11 Health and Compensation Act into law, ensuring that rescue and recovery workers, and others suffering from health consequences related to the World Trade Center disaster, have access to the medical monitoring and treatment they need and deserve. As a Nation, we must never forget the selfless courage demonstrated by the EMTs, paramedics, and first responders who risked their lives to save others.

During EMS Week, we recognize the importance of ensuring our Nation’s children have full access to high-quality EMS care. Reauthorized in the Affordable Care Act, the Federal EMS for Children program works with public and private sector partners across the United States to make certain that all children—regardless of where they live, attend school, or travel—receive appropriate EMS care.

EMS agencies are an integral part of our Nation’s health security strategy, and they help to build community resilience by strengthening all aspects of the emergency response system. Whether responding by car, ambulance, helicopter, boat, or plane, this diverse group of dedicated Americans provides crucial pre-hospital medical care to fellow citizens when they need it most. This week, we take time to recognize the inspiring contributions of our Nation’s EMS practitioners and honor their dedication to serving their country and fellow citizens.

NOW, THEREFORE, I, BARACK OBAMA, President of the United States of America, by virtue of the authority vested in me by the Constitution and the laws of the United States, do hereby proclaim May 15 through May 21, 2011, as Emergency Medical Services Week. I encourage all Americans to observe this occasion by sharing their support with their local EMS providers and taking steps to improve their personal safety and preparedness.

IN WITNESS WHEREOF, I have hereunto set my hand this thirteenth day of May, in the year of our Lord two thousand eleven, and of the Independence of the United States of America the two hundred and thirty-fifth.

[FR Doc. 2011-12546

Filed 5-18-11; 11:15 am]

Billing code 3195-W1-P